DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 5, 2014. Address written comments to Statutory Import Programs Staff, Room 3720, U.S. Department of Commerce, Washington, DC 20230. Applications may be examined between 8:30 a.m. and 5:00 p.m. at the U.S. Department of Commerce in Room 3720.

Docket Number: 14-011. Applicant: University of California, San Diego, 9500 Gilman Drive, La Jolla, CA 92093. Instrument: iMIC Digital Microscope 2.0. Manufacturer: TILL Photonics (FEI Munich), Germany. Intended Use: The instrument will be used to gain fundamental knowledge of the mechanisms involved in eukaryotic cell motion, by utilizing a total internal reflection technique which allows visualization of only the cell part that is immediately above the substratum (roughly the bottom 100 nm of a cell), which enables cell imaging with a superior spatial and temporal resolution over other non-TIRF microscopes. Examples of experiments to be conducted with the instrument include measuring the forces generated by several different cell types on substrates during directed motility, determining the spatial location of signaling components involved in cell-substrate adhesion, investigating the effect of different substrate rigidities on cell motility, determining the response of cells to externally imposed chemical gradients, and determining the role of certain signaling components in cell motility. Crucial in the experiments is the unique ability of the instrument to autofocus the imaging plane such that the cell remains in focus for an extended period of time, which guarantees sharp images for the duration of the experiments. The instrument also has a Yanus IV scanhead that enables fast Fluorescence Recovery After Photobleaching (FRAP) experiments, and a custom-made plexiglass box to facilitate specific temperature and CO2 concentrations required by mammalian and amoeboid cells, that can easily be removed to transition between different conditions. Justification for Duty-Free Entry: There are no instruments of the same general category manufactured in the United States. Application accepted by Commissioner of Customs: May 7, 2014.

Docket Number: 14-016. Applicant: California Institute of Technology, 1200 East California Blvd., MC 213-15, Pasadena, CA 91125. Instrument: iXBlue OCTANS Surface—Fiber Optic Gyrocompass. Manufacturer: iXBLUE Incorporated, France. Intended Use: The instrument will be used to provide accurate data for research on earthquake early warning, by orienting more than 100 seismic sensors to the exact north direction. The instrument includes unique features such as compact design and ease of use in enclosed spaces such as small vault installations that are 8 feet deep and only 2 feet in diameter, the ability to measure orientation with an accuracy of 0.1 degrees, portability, and is based on iXBlue's proprietary algorithms that are not available domestically. Justification for Duty-Free Entry: There are no instruments of the same general category manufactured in the United States. Application accepted by Commissioner of Customs: June 6, 2014.

Dated: July 10, 2014.
Gregory W. Campbell,
Director of Subsidies Enforcement, Enforcement and Compliance.

[FR Doc. 2014-16770 Filed 7-15-14; 8:45 am]

BILLING CODE 3510-DS-P